INTERNATIONAL TRADE COMMISSION

[Inv. No. 337-TA-680]

In the Matter of Certain Machine Vision Software, Machine Vision Systems, and Products Containing Same; Notice of Investigation

AGENCY: U.S. International Trade Commission.

ACTION: Institution of investigation pursuant to 19 U.S.C. 1337.

SUMMARY: Notice is hereby given that a complaint was filed with the U.S. International Trade Commission on May 28, 2009, under section 337 of the Tariff Act of 1930, as amended, 19 U.S.C. 1337, on behalf of Cognex Corporation of Natick, Massachusetts and Cognex Technology & Investment Corporation of Mountain View, California. An amended complaint was filed on June 26, 2009. A supplemental letter was filed on July 1, 2009. The amended complaint alleges violations of section 337 based upon the importation into the United States, the sale for importation, and the sale within the United States after importation of certain machine vision software, machine vision systems, and products containing same that infringe certain claims of U.S. Patent Nos. 7,016,539; 7,065,262; and 6,959,112. The amended complaint further alleges that an industry in the United States exists as required by subsection (a)(2) of section 337.

The complainants request that the Commission institute an investigation and, after the investigation, issue an exclusion order and cease and desist orders.

ADDRESSES: The amended complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: Kevin Baer, Esq., Office of Unfair Import Investigations, U.S. International Trade Commission, telephone (202) 205-2221.

Authority: The authority for institution of this investigation is contained in section 337 of the Tariff Act of 1930, as amended, and in section 210.10 of the Commission's Rules of Practice and Procedure, 19 CFR 210.10 (2009).

Scope of Investigation: Having considered the amended complaint, the U.S. International Trade Commission, on July 9, 2009, ordered that—

(1) Pursuant to subsection (b) of section 337 of the Tariff Act of 1930, as amended, an investigation be instituted to determine whether there is a violation of subsection (a)(1)(B) of section 337 in the importation into the United States, the sale for importation, or the sale within the United States after importation of certain machine vision software, machine vision systems, or products containing same that infringe one or more of claims 1-6, 8, 12, 18-21, 24, 25, and 33-35 of U.S. Patent No. 7,016,539; 1, 11-13, 21, 28-30, 39, 47, 54, and 55 of U.S. Patent No. 7,065,262; and claims 1-10 of U.S. Patent No. 6,959,112, and whether an industry in the United States exists as required by subsection (a)(2) of section 337;

(2) For the purpose of the investigation so instituted, the following are hereby named as parties upon which this notice of investigation shall be served:

(a) The complainants are—

Cognex Corporation, One Vision Drive, Natick, MA 01760;

Cognex Technology & Investment Corporation, 465 North Wisman Road, Suite 200, Mountain View, CA 94043.

(b) The respondents are the following entities alleged to be in violation of section 337, and are the parties upon which the amended complaint is to be served:

MVTec Software GmbH, Neherstr. 1, 81675 München, Germany;

MVTec LLC, 1 Broadway, Cambridge, MA 02142;

E. Zoller GmbH & Co. KG, Gottlieb-Daimler-Strasse 19, 74385 Pleidelsheim, Germany;

Zoller, Inc., 3753 Plaza Drive, Suite #1, Ann Arbor, MI 48108;

Fuji Machine Manufacturing Co., Ltd., 19 Chausuyama, Yamamachi, Chiryu, Aichi 472-8686, Japan;

Fuji America Corporation, 171 Corporate Woods Parkway, Vernon Hills, IL 60061;

Omron Corporation, Gate City Osaki, West Tower 15F, 1-11-1, Osaki, Shinagawa-ku, Tokyo, 141-0032, Japan;

Resolution Technology, Inc., 5990 Wilcox Place, Suite B, Dublin, OH 43016;

Subtechnique, Inc., 4950-C Eisenhower Ave., Alexandria, VA 22304;

Visics Corp., 70 Hastings Street, Wellesley, MA 02181;

Daiichi Jitsugyo Viswill Co., Ltd., 12-43, Honami-cho, Suita City, Osaka 564-0042, Japan;

Daiichi Jitsugyo (America), Inc., 939 A.E.C. Drive, Wood Dale, IL 60191;

Amistar Automation, Inc., 1269 Linda Vista, San Marcos, CA 92078;

Techno Soft Systemnics, Inc., Naniwa Ward, Ebisunishi 2-chome Sakae, Shiyou Building, No. 17, Osaka 556-0003, Japan;

IDS Imaging Development Systems GmbH, Dimbacher Str. 6, Obersulm 74182, Germany;

IDS Imaging Development Systems, Inc., 400 West Cummings Park, Suite 3400, Woburn, MA 01801;

YXLON International GmbH, Essener Bogen 15, Hamburg D-22419, Germany;

YXLON International, Inc., 3400 Gilchrist Road, Mogadore, OH 44260;

Rasco GmbH, Geigelsteinstrasse 6, Kolbermoor 83059, Germany;

Delta Design, Inc., 12367 Crosthwaite Circle, Poway, CA 92064;

Multitest Elektronische Systeme GmbH, Äussere Oberaustrasse 4, Rosenheim 83026, Germany;

Multitest Electronic Systems, Inc., 3021 Kenneth Street, Santa Clara, CA 95054.

(c) The Commission investigative attorney, party to this investigation, is Kevin Baer, Esq., Office of Unfair Import Investigations, U.S. International Trade Commission, 500 E Street, SW., Suite 401, Washington, DC 20436; and

(3) For the investigation so instituted, Paul J. Luckern, Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

Issued: July 13, 2009.
By order of the Commission.
Marilyn R. Abbott,
Secretary to the Commission.

[FR Doc. E9-16901 Filed 7-15-09; 8:45 am]

BILLING CODE 7020-02-P